DEPARTMENT OF COMMERCE

National Oceanic and Atmospheric Administration

[RTID 0648-XA998]

Pacific Fishery Management Council; Public Meeting

AGENCY: National Marine Fisheries Service (NMFS), National Oceanic and Atmospheric Administration (NOAA), Commerce.

ACTION: Notice of a public online workshop.

SUMMARY: The Pacific Sablefish Transboundary Assessment Team (PSTAT), in collaboration with the Northwest Fisheries Science Center (NWFSC), Alaska Fisheries Science Center (AFSC), Department of Fisheries and Oceans (DFO), Alaska Department of Fish and Game (ADF&G), Pacific Fishery Management Council (PFMC), and North Pacific Fishery Management Council (NPFMC), is holding a public workshop to solicit feedback on the ongoing range-wide sablefish management strategy evaluation (MSE). The Sablefish MSE Workshop is open to the public.

DATES: The Sablefish MSE Workshop will be held Tuesday, April 27, 2021 through Wednesday, April 28, 2021 beginning at 1:30 p.m. Pacific Daylight Time (PDT) and ending at 5:30 p.m. on Tuesday, reconvening at 9:30 a.m. on Wednesday and ending at 5 p.m. or when business for the workshop has been completed.

ADDRESSES: The Sablefish MSE Workshop will be an online meeting. Specific meeting information, including directions on how to join the meeting and system requirements will be provided at https://www.pacificsablefishscience.org/. You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Dr. Melissa Haltuch, NMFS Northwest Fisheries Science Center, (206) 860-3480; Ms. Kari Fenske, Alaska Fisheries Science Center, (907) 789-6653; Mr. Chris Lunsford, Alaska Fisheries Science Center, (907) 789-6008; Dr. Brendan Connors, Department of Fisheries and Oceans Canada, (250) 858-7028; Dr. Diana Stram, North Pacific Fishery Management Council, (907) 271-2806; or Mr. John DeVore, Pacific Fishery Management Council, (503) 820-2413.

SUPPLEMENTARY INFORMATION: The purpose of the Sablefish MSE Workshop is to engage fishery stakeholders, Alaska Native and Tribal governments, First Nations, scientists, managers, and non-governmental organization (NGO) staff from each region during this two-day workshop that will foster discussions among regions about sablefish science and management. The workshop will introduce the basic premise, goals, and utility of an MSE and participants' roles in the process. The successful sablefish MSE experience from British Columbia will be introduced, along with the range of time horizons for incorporating stakeholder input into this Sablefish MSE. Then the Operating Model (OM) structure and justification for focusing on the entire NE Pacific, rather than the traditional regional approach to scientific analyses, will be discussed. The first key focal point for participant feedback into this MSE process is in identifying fishery objectives. Participants will be provided with an overview of the types of objectives commonly used for MSE and recommend objectives for this MSE. Next, participants will be provided with an overview of the types of performance metrics (quantities for evaluating if objectives are met) commonly used for MSE and provide feedback on performance metrics for this MSE. An overview of the current regional sablefish management strategies (the combination of stock assessment model and harvest control rule) will precede a discussion of the proposed near term MSE management strategies and identify and prioritize additional ideas for MSE management strategies for future research.

Workshop attendees desiring to engage participants will be required to register in advance at https://www.pacificsablefishscience.org/. There are two registration options for workshop attendees—participant or observer. Registrants are asked to self-select their attendance category. Participants are expected to engage in the full two-day workshop, including approximately three small group breakout group sessions over the course of the two days (approximately 20-40 min. for each session). Facilitators will guide breakout group participants through questions and discussions aimed at collecting participant feedback and ideas on each focal topic. Facilitators will summarize breakout group discussions and suggestions to the full group of observers and participants. The registration deadline for participants is Friday, April 16. The objective is to accommodate everyone that registers as a participant, although it may not be possible for all participant requests to be fulfilled. Early registration is encouraged to ensure the ability to participate. Observer-level registrants will be able to listen to presentations and full group discussions and ask questions as time permits during full group discussions. While observers are encouraged to register in advance, observers may register for the meeting until 5 p.m. April 23.

Additionally, the meeting will be live streamed via YouTube where individuals may listen to the presentations and full group discussions without registration. YouTube viewers will not be able to ask questions during the full group discussion periods and will not be able to view the breakout group discussions. Meeting materials and instructions for connecting to the live audio stream will be made available in advance of the workshop at https://www.pacificsablefishscience.org/. No management actions will be decided by the workshop participants. The workshop's participants' role will be development of recommendations for consideration by the PSTAT in developing the NE Pacific Sablefish MSE.

Although nonemergency issues not contained in the workshop agenda may be discussed, those issues may not be the subject of formal action during these meetings. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Mr. Kris Kleinschmidt, (503) 820-2412, at least 10 days prior to the meeting date.

Authority: 16 U.S.C. 1801 et seq.

Dated: April 7, 2021.
Tracey L. Thompson,
Acting Deputy Director, Office of Sustainable Fisheries, National Marine Fisheries Service.

[FR Doc. 2021-07415 Filed 4-9-21; 8:45 am]

BILLING CODE 3510-22-P